SECURITIES AND EXCHANGE COMMISSION

[Release No. 44528; File No. SR-CBOE-2001-31]

In the Matter of Chicago Board Options Exchange, Incorporated; Order of Summary Abrogation

July 9, 2001.

Notice is hereby given that the Securities and Exchange Commission (“Commission”), pursuant to section 19(b)(3)(C) of the Securities Exchange Act of 1934 (“Act”),¹ is summarily abrogating a rule of the Chicago Board Options Exchange, Incorporated (“CBOE” or “Exchange”).

¹ 15 U.S.C. 78s(b)(3)(C).

On June 11, 2001, the CBOE filed with the Commission a rule change (“Rule Change”) establishing a new fee to be imposed on clearing firms. The new fee applies to each contract that the clearing firm sends to the Exchange's Public Automated Routing (“PAR”) system in a given month, if the total number of contracts cancelled by the firm on the PAR system that month exceeds 40% of the total number of contracts that the firm sent to PAR in that same month. The fee does not apply to any clearing firm that sends fewer than 4,000 contracts to PAR in a given month. The CBOE designated the Rule Change to take effect upon filing with the Commission pursuant to section 19(b)(3)(A) of the Act.²

² 15 U.S.C. 78s(b)(3)(A).

On July 6, 2001, the Commission published notice of the filing and immediate effectiveness of the Rule Change (“Notice”).³ In the Notice, the Commission specifically noted that section 19(b)(3)(C) of the Act provides that, within 60 days of the filing of the Rule Change, the Commission may summarily abrogate the Rule Change if it appears to the Commission that such action is necessary or appropriate in the public interest, for the protection of investors, or otherwise in furtherance of the purposes of the Act.⁴

³ Securities Exchange Act Release No. 44489 (June 28, 2001), 66 FR 35683 (July 6, 2001).

⁴ Id.

It appears that the Rule Change raises questions as to whether the fee is consistent with the Act. Accordingly, the Commission believes that the procedures provided by section 19(b)(2) will provide a more appropriate mechanism for determining whether the Rule Change is consistent with the provisions of the Act. Therefore, the Commission finds that it is appropriate in the public interest, for the protection of investors, and otherwise in furtherance of the purposes of the Act to abrogate the Rule Change.

It Is Therefore Ordered, pursuant to section 19(b)(3)(C) of the Act, that the Rule Change (File No. SR-CBOE-2001-31) is summarily abrogated as of this date, and that, if the CBOE chooses to refile the Rule Change, it do so pursuant to section 19(b)(2) of the Act.

For the Commission, by the Division of Market Regulation, pursuant to delegated authority.⁵
⁵ 17 CFR 200.30-3(a)(58).
Margaret H. McFarland,
Deputy Secretary.

[FR Doc. 01-17516 Filed 7-12-01; 8:45 am]

BILLING CODE 8010-01-M